DEPARTMENT OF LABOR

Employee Benefits Security Administration

Agency Information Collection Activities; Request for Public Comment

AGENCY: Employee Benefits Security Administration (EBSA), Department of Labor.

ACTION: Notice.

SUMMARY: The Department of Labor (the Department), in accordance with the Paperwork Reduction Act, provides the general public and Federal agencies with an opportunity to comment on proposed and continuing collections of information. This helps the Department assess the impact of its information collection requirements and minimize the public's reporting burden. It also helps the public understand the Department's information collection requirements and provides the requested data in the desired format. The Employee Benefits Security Administration (EBSA) is soliciting comments on the proposed extension of the information collection requests (ICRs) contained in the documents described below. A copy of the ICRs may be obtained by contacting the office listed in the ADDRESSES section of this notice. ICRs also are available at reginfo.gov (http://www.reginfo.gov/public/do/PRAMain).

DATES: Written comments must be submitted to the office shown in the ADDRESSES section on or before September 9, 2025.

ADDRESSES: U.S. Department of Labor, Employee Benefits Security Administration, Office of Research and Analysis, Attention: PRA Officer, 200 Constitution Avenue NW, Room N-5718, Washington, DC 20210, or ebsa.opr@dol.gov.

SUPPLEMENTARY INFORMATION:

I. Current Actions

This notice requests public comment on the Department's request for extension of the Office of Management and Budget's (OMB) approval of ICRs contained in the rules and prohibited transaction exemptions described below. This action is not related to any pending rulemakings and the Department is not proposing any changes to the existing ICRs at this time. An agency may not conduct or sponsor, and a person is not required to respond to, an information collection unless it displays a valid OMB control number. A summary of the ICRs and the burden estimates follows:

Agency: Employee Benefits Security Administration, Department of Labor.

Title: Class Exemption for Certain Transactions Involving Purchase of Securities where Issuer May Use Proceeds to Reduce or Retire Indebtedness to Parties in Interest (PTE 1980-83).

Type of Review: Extension of a currently approved collection of information.

OMB Number: 1210-0064.

Affected Public: Private sector, Businesses or other for-profits.

Respondents: 25.

Responses: 25.

Estimated Total Burden Hours: 15.

Estimated Total Burden Cost (Operating and Maintenance): $0.

Description:

Class exemption PTE 80-83, granted on November 4, 1980, allows employee benefit plans to purchase securities, which may aid the issuer of the securities to reduce or retire indebtedness to a party in interest to the plan. Entities who rely on the exemption are mainly banks that purchase, on behalf of employee benefit plans, securities issued by a corporation indebted to the bank that is a party in interest to the plan.

The principal requirements of the exemption are that the securities must be sold as part of a public offering, the price paid for the securities must not be in excess of the original offering price, and the plan fiduciary must maintain records of the transactions for six years and make the records available for inspection to specified interested persons (including the Department and the Internal Revenue Service). This exemption also provides relief from the prohibited transaction provisions of Section 4975 of the Internal Revenue Code (the Code). The Department has received approval from OMB for this ICR under OMB Control No. 1210-0064. The current approval is scheduled to expire on January 31, 2026.

Agency: Employee Benefits Security Administration, Department of Labor.

Title: Petition for Finding under the Employee Retirement Income Security Act Section 3(40).

Type of Review: Extension of a currently approved collection of information.

OMB Number: 1210-0119.

Affected Public: Private sector, Business or other for profits, Not-for-profit institutions.

Respondents: 10.

Responses: 10.

Estimated Total Burden Hours: 370.

Estimated Total Burden Cost (Operating and Maintenance): $87.

Description:

The term “multiple employer welfare arrangement” (MEWA) is defined in Section 3(40) of the Employee Retirement Income Security Act of 1974 (ERISA) as an employee welfare benefit plan or any other arrangement which is established or maintained for the purpose of offering or providing [welfare plan benefits] to the employees of two or more employers, (including one or more self-employed individuals), or their beneficiaries, except that such term does not include any such plan or other arrangement which is established or maintained under or pursuant to one or more agreements which the Secretary of Labor (the Secretary) finds to be collective bargaining agreements. Under Section 514(b)(6) of ERISA, an employee welfare benefit plan that is a MEWA is generally subject to state insurance law. The Department's regulation at 29 CFR 2510.3-40 sets forth criteria for determining when an employee welfare benefit plan is established or maintained under or pursuant to collective bargaining agreements for purposes of section 3(40) of ERISA. The Department's regulations at 29 CFR part 2570, subpart H set forth procedures for administrative hearings to obtain a determination by the Secretary as to whether a particular entity is an employee welfare benefit plan established or maintained under or pursuant to one or more collective bargaining agreements for purposes of section 3(40) of ERISA.

To initiate adjudicatory proceedings, an entity is required to file a petition for a determination under Section 3(40) of ERISA with an Administrative Law Judge (ALJ). The petition must identify the parties, describe the basis on which the petition is being filed and the entity in question, provide evidence that the entity satisfies the criteria to be an employee welfare benefit plan, and include affidavits as to both the competency of the affiant to testify and the facts that allegedly establish the entity as a plan established under or pursuant to agreements that the Secretary finds to be a collective bargaining agreement. The Department has received approval from OMB for this ICR under OMB Control No. 1210-0119. The current approval is scheduled to expire on January 31, 2026.

Agency: Employee Benefits Security Administration, Department of Labor.

Title: Notice Requirements of the Health Care Continuation Coverage Provisions.

Type of Review: Extension of a currently approved collection of information.

OMB Number: 1210-0123.

Affected Public: Private sector, Business or other for profits, Not-for-profit institutions.

Respondents: 1,981,055.

Responses: 26,890,373.

Estimated Total Burden Hours: 490,857.

Estimated Total Burden Cost (Operating and Maintenance): $16,403,128.

Description:

The Consolidated Omnibus Budget Reconciliation Act of 1985 (COBRA) provides that under certain circumstances participants and beneficiaries of group health plans that satisfy the definition of “qualified beneficiaries” under COBRA may elect to continue group health coverage temporarily following events known as “qualifying events” that would otherwise result in loss of coverage.

Under the regulatory guidelines, plan administrators are required to distribute notices: a general notice to be distributed to all participants in group health plans subject to COBRA; an employer notice that must be completed by the employer upon the occurrence of a qualifying event; a notice and election form to be sent to a participant upon the occurrence of a qualifying event that might cause the participant to lose group health coverage; an employee notice that may be completed by a qualified beneficiary upon the occurrence of certain qualifying events such as divorce or disability; and, two other notices, one of early termination and the other a notice of unavailability. Also included in the ICR are two model notices that the Department believes will help reduce costs for service providers in preparing and delivering notices to comply with the regulations. The Department has received approval from OMB for this ICR under OMB Control No. 1210-0123. The current approval is scheduled to expire on January 31, 2026.

Agency: Employee Benefits Security Administration, Department of Labor.

Title: Statutory Exemption for Cross-Trading of Securities.

Type of Review: Extension of a currently approved collection of information.

OMB Number: 1210-0130.

Affected Public: Private sector, Business or other for profits, Not-for-profit institutions.

Respondents: 271.

Responses: 2,439.

Estimated Total Burden Hours: 2,832.

Estimated Total Burden Cost (Operating and Maintenance): $15,854.

Description:

The Statutory Exemption for Cross-Trading of Securities regulation (29 CFR 2550.408b-19) implements the content requirements for the written cross-trading policies and procedures required under section 408(b)(19)(H) of ERISA, as added by section 611(g) of the Pension Protection Act of 2006, Public Law 109-280 (the PPA). Section 611(g)(1) of the PPA created a statutory exemption, added to section 408(b) of ERISA as subsection 408(b)(19), that exempts from the prohibitions of sections 406(a)(1)(A) and 406(b)(2) of ERISA those cross-trading transactions involving the purchase and sale of a security between an account holding assets of a pension plan and any other account managed by the same investment manager, provided that certain conditions are satisfied.

On October 7, 2008, the Department issued final regulations regarding cross-trading policies and procedures (73 FR 58450). The regulation provides that the policies and procedures for cross-trading under the statutory exemption must meet certain content requirements.

The statutory exemption requires, as a condition to exemptive relief, that an investment manager's policies and procedures regarding cross-trading be provided in advance to the fiduciary of any plan that is considering agreeing to allow its assets to be managed under the investment manager's cross-trading program. The investment manager is also required, under the statutory exemption, to designate a compliance officer responsible for periodically reviewing the investment manager's cross-trading program to ensure compliance with the investment manager's cross-trading written policies and procedures. The statutory exemption requires the compliance officer to issue an annual report to each plan fiduciary describing the steps performed during the course of the review, the level of compliance, and any specific instances of noncompliance. The exemption does not require any reporting or filing with the Federal government. The Department has received approval from OMB for this ICR under OMB Control No. 1210-0130. The current approval is scheduled to expire on January 31, 2026.

Agency: Employee Benefits Security Administration, Department of Labor.

Title: Model Employer Children's Health Insurance Program Notice.

Type of Review: Extension of a currently approved collection of information.

OMB Number: 1210-0137.

Affected Public: Private sector, Farms, Business or other for profits, Not-for-profit institutions, State, Local, and Tribal Governments.

Respondents: 6,440,781.

Responses: 215,756,871.

Estimated Total Burden Hours: 751,554.

Estimated Total Burden Cost (Operating and Maintenance): $18,037,275.

Description:

On February 4, 2009, President Obama signed the Children's Health Insurance Program Reauthorization Act of 2009 (CHIPRA, Pub. L. 111-3). Under ERISA section 701(f)(3)(B)(i)(I), Public Health Service Act (PHS) section 2701(f)(3)(B)(i)(I), and section 9801(f)(3)(B)(i)(I) of the Internal Revenue Code, as added by Children's Health Insurance Program Reauthorization Act of 2009 (CHIPRA), an employer that maintains a group health plan in a State that provides medical assistance under a State Medicaid plan under title XIX of the Social Security Act (SSA), or child health assistance under a State child health plan under title XXI of the SSA, in the form of premium assistance for the purchase of coverage under a group health plan, is required to make certain disclosures. Specifically, the employer is required to notify each employee of potential opportunities currently available in the State in which the employee resides for premium assistance under Medicaid and CHIP for health coverage of the employee or the employee's dependents. These notices are referred to as “Employer CHIP Notices.”

ERISA section 701(f)(3)(B)(i)(II) requires the Department of Labor to provide employers with model language for the Employer CHIP Notices to enable them to timely comply with this requirement, which is referred to as the “Model Employer CHIP Notice.” The model language is required to include information on how an employee may contact the State in which the employee resides for additional information regarding potential opportunities for premium assistance, including how to apply for such assistance. The Department has received approval from OMB for this ICR under OMB Control No. 1210-0137. The current approval is scheduled to expire on January 31, 2026.

Agency: Employee Benefits Security Administration, Department of Labor.

Title: Plan Asset Transactions Determined by In-House Asset Managers under Prohibited Transaction Class Exemption 96-23.

Type of Review: Extension of a currently approved collection of information.

OMB Number: 1210-0145.

Affected Public: Private sector, Business or other for profits, Not-for-profit institutions.

Respondents: 20.

Responses: 20.

Estimated Total Burden Hours: 940.

Estimated Total Burden Cost (Operating and Maintenance): $400,000.

Description:

The Department granted PTE 96-23 (61 FR 15975), Class Exemption for Plan Asset Transactions Determined by In-House Asset Managers. The class exemption permits a plan to engage in transactions involving various parties in interest if, among other requirements, the assets of the plan are managed by an in-house asset manager (INHAM).

PTE 96-23 contains requirements for written guidelines between an INHAM and a property manager that an INHAM has retained to act on its behalf. The information collection requirements consist of the requirements that the INHAM develop written policies and procedures designed to assure compliance with the conditions of the exemption and have an independent auditor conduct an annual INHAM exemption audit and issue an audit report to each plan. The Department has received approval from OMB for this ICR under OMB Control No. 1210-0145. The current approval is scheduled to expire on January 31, 2026.

Agency: Employee Benefits Security Administration, Department of Labor.

Title: Prohibited Transaction Class Exemption for Certain Transactions Between Investment Companies and Employee Benefit Plans (PTE 1977-4).

Type of Review: Extension of a currently approved collection of information.

OMB Number: 1210-0049.

Affected Public: Private sector, Business or other for profits, Not-for-profit institutions.

Respondents: 825.

Responses: 297,552.

Estimated Total Burden Hours: 25,208.

Estimated Total Burden Cost (Operating and Maintenance): $0.

Description:

PTE 77-4, which was originally granted on April 8, 1977, exempts from the prohibited transaction restrictions the purchase and sale by an employee benefit plan of shares of a registered, open-end investment company (mutual fund) when the investment adviser for the mutual fund is also a fiduciary of the plan and is not an employer of employees covered by the plan. There are three disclosure requirements incorporated within the class exemption. The first requirement is intended to put the plan on notice of possible fees associated with the redemption of open-end mutual fund shares. It requires disclosure of any redemption fees in the investment company prospectus in effect both at the time of purchase of such shares and at the time of such sale. The class exemption permits a plan to pay a redemption fee on the sale, by redemption, of open-end mutual fund shares only if the fee is paid to the open-end mutual company and the above noted disclosure is made.

The second requirement is that, at the time of the covered transaction, an independent fiduciary receive a copy of the current prospectus issued by the investment company and full and detailed written disclosure of the investment advisory fees and other fees charged to or paid by the plan and the investment company, including the nature and extent of any differential between the rates of such fees, the reasons why the fiduciary/investment adviser may consider such purchases to be appropriate for the plan, and whether there are any limitations on the fiduciary/investment adviser with respect to which plan assets may be invested in shares of the investment company and, if so, the nature of such limitations. In advisory opinion 2013-04A, the Department determined that, under the Securities and Exchange Commission's 2009 revised disclosure provisions for mutual funds,¹ delivery of a summary prospectus to an independent fiduciary satisfies the prospectus distribution requirement solely for purposes of section II(d) of PTE 77-4.

¹ See 74 FR 4546 (January 26, 2009).

The third requirement is that the independent fiduciary be notified of any changes in the fees and approves in writing the continuation of the plan's purchases or sales and the continued holding of any investment company shares acquired by the plan prior to the fee change and still held by the plan. The Department has received approval from OMB for this ICR under OMB Control No. 1210-0049. The current approval is scheduled to expire on February 28, 2026.

Agency: Employee Benefits Security Administration, Department of Labor.

Title: Employee Retirement Income Security Act Summary Annual Report Requirement.

Type of Review: Extension of a currently approved collection of information.

OMB Number: 1210-0040.

Affected Public: Private sector, Business or other for profits, Not-for-profit institutions.

Respondents: 809,901.

Responses: 178,211,549.

Estimated Total Burden Hours: 1,068,322.

Estimated Total Burden Cost (Operating and Maintenance): $18,423,119.

Description:

ERISA Section 104(b)(3) and the regulation published at 29 CFR 2520.104b-10 require, with certain exceptions, that administrators of employee benefit plans furnish annually to each participant and certain beneficiaries a summary annual report (SAR) meeting the requirements of the statute and regulation. The regulation prescribes the content and format of the SAR and the timing of its delivery. The SAR provides current information about the plan and assists those who receive it in understanding the plan's current financial operation and condition. It also explains participants' and beneficiaries' rights to receive further information on these issues. The Department has received approval from OMB for this ICR under OMB Control No. 1210-0040. The current approval is scheduled to expire on March 31, 2026.

Agency: Employee Benefits Security Administration, Department of Labor.

Title: Annual Information Return/Report of Employee Benefit Plan.

Type of Review: Extension of a currently approved collection of information.

OMB Number: 1210-0110.

Affected Public: Private sector, Businesses or other for-profits, Not-for-profit institutions.

Respondents: 839,382.

Responses: 845,028.

Estimated Total Burden Hours: 2,872,410.

Estimated Total Burden Cost (Operating and Maintenance): $0.

Description:

This information collection relates to section 104 of ERISA, which requires administrators of employee benefit pension and welfare plans (collectively referred to as employee benefit plans) to file returns or reports annually with the federal government. The Form 5500 return/reports are the principal source of information and data available to the Department, the Internal Revenue Service, and the Pension Benefit Guaranty Corporation (the Agencies) concerning the operation of employee benefit plans. For this reason, the Form 5500 constitutes an integral part of the Agencies' enforcement, research, and policy formulation programs. The Department has received approval from OMB for this ICR under OMB Control No. 1210-0110. The current approval is scheduled to expire on March 31, 2026.

Agency: Employee Benefits Security Administration, Department of Labor.

Title: Employee Benefit Plan Claims Procedure Under the Employee Retirement Income Security Act.

Type of Review: Extension of a currently approved collection of information.

OMB Number: 1210-0053.

Affected Public: Private sector, Business or other for profits, Not-for-profit institutions.

Respondents: 3,887,973.

Responses: 1,436,422,678.

Estimated Total Burden Hours: 28,981,362.

Estimated Total Burden Cost (Operating and Maintenance): $262,290,654.

Description:

In November 2000, the Department issued a final regulation establishing minimum claims procedure requirements that all employee benefit plans under ERISA must meet in order to satisfy the requirements of section 503 of ERISA. Section 505 of ERISA authorizes the Secretary to prescribe regulations as appropriate or necessary to carry out the provisions of Title I of ERISA. The regulation requires plans to provide every claimant who is denied a claim with a written or electronic notice that contains the specific reasons for denial, a reference to the relevant plan provisions on which the denial is based, a description of any additional information necessary to perfect the claim, and a description of steps to be taken if the participant or beneficiary wishes to appeal the denial. The regulation also requires that any adverse decision upon review be in writing (including electronic means) and include specific reasons for the decision, as well as references to relevant plan provisions. The Department has received approval from OMB for this ICR under OMB Control No. 1210-0053. The current approval is scheduled to expire on April 30, 2026.

Agency: Employee Benefits Security Administration, Department of Labor.

Title: Prohibited Transaction Class Exemption 1992-6: Sale of Individual Life Insurance or Annuity Contracts by an Employee Benefit Plan.

Type of Review: Extension of a currently approved collection of information.

OMB Number: 1210-0063.

Affected Public: Private sector, Business or other for profits.

Respondents: 11,401.

Responses: 11,401.

Estimated Total Burden Hours: 2,280.

Estimated Total Burden Cost (Operating and Maintenance): $7,753.

Description:

PTE 92-6 exempts from the prohibited transaction restrictions the sale of individual life insurance or annuity contracts held by an employee benefit plan to: (1) plan participants insured under such contracts; (2) a relative of such participant who is the beneficiaries under the contract, (3) an employer any of whose employees are covered by the plan; (4) another employee benefit plan; (5) plan participants who are owner-employees (as defined in section 401(c)(3) of the Code), or shareholder-employees (as defined in section 1379 of the Internal Revenue Code of 1954 as in effect on the day before the enactment of the Subchapter S Revision Act of 1982), or (6) trusts established by or for the benefit of plan participants (1) or (2), provided certain conditions set forth in the class exemption are met. With respect to sales of the policy to the employer, a relative of the insured, a trust, or another plan, the participant insured under the policy is first informed of the proposed sale and is given the opportunity to purchase such contract from the plan, and delivers a written document to the plan stating that he or she elects not to purchase the policy and consents to the sale by the plan of such policy to such employer, relative, trust or other plan.

The Department has received approval from OMB for this ICR under OMB Control No. 1210-0063. The current approval is scheduled to expire on May 31, 2026.

II. Focus of Comments

The Department is particularly interested in comments that:

• Evaluate whether the collections of information are necessary for the proper performance of the functions of the agency, including whether the information will have practical utility;

• Evaluate the accuracy of the agency's estimate of the collections of information, including the validity of the methodology and assumptions used;

• Enhance the quality, utility, and clarity of the information to be collected; and

• Minimize the burden of the collection of information on those who are to respond, including through the use of appropriate automated, electronic, mechanical, or other technological collection techniques or other forms of information technology, e.g., by permitting electronic submissions of responses.

Comments submitted in response to this notice will be summarized and/or included in the ICR for OMB approval of the information collection; they will also become a matter of public record.

Signed at Washington, DC, this 7th day of July 2025.
Janet Dhillon,
Acting Assistant Secretary, Employee Benefits Security Administration, U.S. Department of Labor.

[FR Doc. 2025-12909 Filed 7-10-25; 8:45 am]

BILLING CODE 4510-29-P